SECURITIES AND EXCHANGE COMMISSION

Sunshine Act Meetings

TIME AND DATE: Notice is hereby given, pursuant to the provisions of the Government in the Sunshine Act, Public Law 94-409, that the Securities and Exchange Commission Fixed Income Market Structure Advisory Committee will hold a public meeting on October 5, 2020, at 9:30 a.m. (ET).

PLACE: The meeting will be conducted by remote means. Members of the public may watch the webcast of the meeting on the Commission's website at www.sec.gov.

STATUS: The meeting will begin at 9:30 a.m. and will be open to the public via webcast. The Sunshine Act notice is being issued because a majority of the Commission may attend the meeting.

MATTERS TO BE CONSIDERED: On September 15, 2020, the Commission issued notice of the Committee meeting (Release No. 34-89868), indicating that the meeting is open to the public and inviting the public to submit written comments to the Committee.

The agenda for the meeting will include a potential recommendation concerning TRACE identification of electronic trades, subcommittee observations and lessons learned in the corporate bond market, the bond fund and ETF market, the technology and e-trading markets, and the municipal securities markets, as well as member observations of the fixed income markets.

CONTACT PERSON FOR MORE INFORMATION: For further information, please contact Vanessa A. Countryman from the Office of the Secretary at (202) 551-5400.

Dated: September 28, 2020.
Vanessa A. Countryman,
Secretary.

[FR Doc. 2020-21725 Filed 9-28-20; 4:15 pm]

BILLING CODE 8011-01-P